DEPARTMENT OF TRANSPORTATION

Federal Aviation Administration

14 CFR Part 39

[Docket No. FAA-2012-1002; Directorate Identifier 2012-NM-052-AD; Amendment 39-17346; AD 2013-03-11]

RIN 2120-AA64

Airworthiness Directives; Airbus Airplanes

AGENCY: Federal Aviation Administration (FAA), Department of Transportation (DOT).

ACTION: Final rule.

SUMMARY: We are adopting a new airworthiness directive (AD) for certain Airbus Model A300 B4-600, B4-600R, and F4-600R series airplanes, and Model A300 C4-605R Variant F airplanes (collectively called A300-600 series airplanes); and Model A310 series airplanes. This AD was prompted by reports of cracking through the honeycomb core closed with phenolic resin. This condition could result in extended debonding and could adversely affect the structural integrity of the rudder. This AD requires inspecting to determine the serial number of a certain rudder and replacing the rudder with a new or serviceable rudder if necessary. We are issuing this AD to prevent extended de-bonding, which could result in loss of the rudder and consequent reduced controllability of the airplane.

DATES: This AD becomes effective March 18, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to include an AD that would apply to the specified products. That NPRM was published in the Federal Register on September 26, 2012 (77 FR 59149). That NPRM proposed to correct an unsafe condition for the specified products. The Mandatory Continuing Airworthiness Information (MCAI) states:

Following in-service findings reported by an operator, rudder laboratory investigation revealed the existence of a crack through the honeycomb core closed with phenolic resin. This condition if not detected and corrected, could result in extended de-bonding, which would adversely affect the structural integrity of the rudder. The loss of the rudder could lead to degradation of the handling qualities and reduces the controllability of the aeroplane.

Further investigations identified a batch of five affected rudders.

For the reasons described above, this [European Aviation Safety Agency (EASA)] AD [2012-0006, dated January 12, 2012] requires [inspecting to determine the serial number (S/N) of a certain rudder and] the replacement of the five affected rudders with [new or] serviceable ones.

You may obtain further information by examining the MCAI in the AD docket.

Comments

We gave the public the opportunity to participate in developing this AD. We considered the comments received.

Request To Supersede AD 2010-16-13, Amendment 39-16390 (75 FR 49370, August 13, 2010)

UPS requested that the NPRM (77 FR 59149, September 26, 2012) supersede AD 2010-16-13, Amendment 39-16390 (75 FR 49370, August 13, 2010). UPS stated that three serial numbers in the NPRM are also the subject of AD 2010-16-13, which could create conflicting actions for the same component.

We disagree with the request to supersede AD 2010-16-13, Amendment 39-16390 (75 FR 49370, August 13, 2010). AD 2010-16-13 is a comprehensive inspection program to verify the integrity of the bonding between the skin and honeycomb core of many rudders, whereas this AD is a complete replacement due to in-service findings of a crack through the honeycomb core. While the actions in AD 2010-16-13 apply to multiple rudders, the replacement required by this AD is limited to 5 rudders. Since the 5 rudders have to be replaced within 3 months, and AD 2010-16-13 applies to many rudders with a various repetitive inspection interval, it is unlikely that the inspection and replacement requirements would overlap. In addition, depending upon which rudder is installed by an operator, the inspection program required by AD 2010-16-13 may or may not apply. No change has been made to this AD in this regard.

Request for Justification of NPRM (77 FR 59149, September 26, 2012)

An anonymous commenter requested justification for the actions required by the NPRM (77 FR 59149, September 26, 2012). The commenter suggested that we ground the airplanes, inspect, and fix them, in order to “stop wasting time and taxpayer money.”

We disagree with the commenter's suggestion for addressing the identified unsafe condition. Under part 39 of the Federal Aviation Regulations (14 CFR part 39), we issue an AD addressing a product when we find that an unsafe condition exists in the product, and the condition is likely to exist or develop in other products of the same type design. In the case of this AD, we determined that the unsafe condition is de-bonding, which could result in loss of the rudder and consequent reduced controllability of the airplane.

Further, under the Administrative Procedure Act (APA) (Pub. L. 79-404, 5 U.S.C. § 551, et seq.) we are required to provide notice of our intent to add, change, or remove information in a rule, as well as to give the public an opportunity to participate in rulemaking actions unless we find good cause to bypass those requirements. (The APA is a body of laws that, working together, provides minimum guidelines and rules that federal agencies are required to follow when issuing a rule or changing existing rules that, if adopted, would impact the rights of the regulated public.) We have followed these requirements in issuing this AD.

Finally, in ADs, we specify a compliance time to incorporate and schedule the actions into operators' maintenance programs to prevent unnecessary grounding of airplanes.

We find that no change to this AD is necessary in response to the commenter's request.

Conclusion

We reviewed the available data, including the comments received, and determined that air safety and the public interest require adopting the AD as proposed except for minor editorial changes. We have determined that these minor changes:

• Are consistent with the intent that was proposed in the NPRM (77 FR 59149, September 26, 2012) for correcting the unsafe condition; and

• Do not add any additional burden upon the public than was already proposed in the NPRM (77 FR 59149, September 26, 2012).

Costs of Compliance

We estimate that this AD will affect 170 products of U.S. registry. We also estimate that it will take about 1 work-hour per product to comply with the basic requirements of this AD. The average labor rate is $85 per work-hour. Based on these figures, we estimate the cost of this AD to the U.S. operators to be $14,450, or $85 per product.

In addition, we estimate that any necessary follow-on actions would take about 10 work-hours and require parts costing $714,100, for a cost of $714,950 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 59149, September 26, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-11 Airbus: Amendment 39-17346. Docket No. FAA-2012-1002; Directorate Identifier 2012-NM-052-AD.

(a) Effective Date

This airworthiness directive (AD) becomes effective March 18, 2013.

(b) Affected ADs

None.

(c) Applicability

This AD applies to Airbus Model A300 B4-601, B4-603, B4-620, B4-622, B4-605R, B4-622R, F4-605R, F4-622R, and C4-605R Variant F airplanes; and Model A310-203, -204, -221, -222, -304, -322, -324, and -325 airplanes; certificated in any category; all serial numbers, except those airplanes on which Airbus modification 08827 has been incorporated in production.

(d) Subject

Air Transport Association (ATA) of America Code 55, Stabilizers.

(e) Reason

This AD was prompted by reports of cracking through the honeycomb core closed with phenolic resin. This condition could result in extended debonding and could adversely affect the structural integrity of the rudder. We are issuing this AD to prevent extended de-bonding, which could result in loss of the rudder and consequent reduced controllability of the airplane.

(f) Compliance

You are responsible for having the actions required by this AD performed within the compliance times specified, unless the actions have already been done.

(g) Inspection

Within 3 months after the effective date of this AD, inspect the rudder having part number (P/N) A55471500, to determine if the rudder has serial number (S/N) HF1010, HF1036, HF1059, HF1061, or HF1064. A review of airplane maintenance records is acceptable in lieu of this inspection if the serial number of the rudder can be conclusively determined from that review.

(h) Rudder Replacement

If, during the inspection required by paragraph (g) of this AD, any rudder having S/N HF1010, HF1036, HF1059, HF1061, or HF1064 is found, before further flight, replace the rudder with a new or serviceable rudder, using a method approved by either the Manager, International Branch, ANM-116, Transport Airplane Directorate, FAA; or the European Aviation Safety Agency (EASA) (or its delegated agent).

Note 1 to Paragraph (h) of this AD: Rudders having S/N HF1010, HF1036, HF1059, HF1061, and HF1064 were installed on airplanes having S/N 0295, 0297, 0321, 0355, and 0500; however, each rudder may have been moved to another airplane.

(i) Parts Installation Prohibition

As of the effective date of this AD, no person may install a rudder P/N A55471500, having S/N HF1010, HF1036, HF1059, HF1061, or HF1064, on any airplane.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI EASA Airworthiness Directive 2012-0006, dated January 12, 2012, for related information.

(l) Material Incorporated by Reference

None.

Issued in Renton, Washington, on January 30, 2013.
Ali Bahrami,
Manager, Transport Airplane Directorate, Aircraft Certification Service.

[FR Doc. 2013-02895 Filed 2-8-13; 8:45 am]

BILLING CODE 4910-13-P